DEPARTMENT OF COMMERCE

International Trade Administration

[A-549-825]

Notice of Final Determination of Sales at Less Than Fair Value: Polyethylene Terephthalate Film, Sheet, and Strip from Thailand

AGENCY: Import Administration, International Trade Administration, Department of Commerce.

EFFECTIVE DATE: September 24, 2008.

SUMMARY: On May 5, 2008, the Department of Commerce (the Department) published its preliminary determination in the investigation of sales at less than fair value of polyethylene terephthalate film, sheet, and strip (PET Film) from Thailand. See Notice of Preliminary Determination of Sales at Not Less Than Fair Value: Polyethylene Terephthalate Film, Sheet, and Strip from Thailand, 73 FR 24565 (May 5, 2008) (Preliminary Determination).

The Department has determined that PET Film is being, or is likely to be, sold in the United States at less than fair value, as provided in section 735 of the Tariff Act of 1930, as amended (the Act). The final weighted-average dumping margin is listed below in the section entitled “Final Determination of Investigation.”

FOR FURTHER INFORMATION CONTACT: Stephen Bailey or Angelica Mendoza, AD/CVD Operations, Office 7, Import Administration, International Trade Administration, U.S. Department of Commerce, 14th Street and Constitution Avenue, NW, Washington, DC 20230; telephone: (202) 482-0193 or (202) 482-3019, respectively.

SUPPLEMENTARY INFORMATION:

Background

The preliminary determination in this investigation was published on May 5, 2008. See Preliminary Determination. Since then, we conducted sales and cost verifications of the responses submitted by Polyplex Thailand Public Company Limited and Polyplex Americas, Inc. (collectively Polyplex). See Memoranda to the File from Stephen Bailey, Case Analyst, through Angelica L. Mendoza, Program Manager, Office 7, titled “Verification of the Sales Responses of Polyplex Thailand Public Company Limited in the Antidumping Investigation of Polyethylene Terephthalate (PET) Film, Sheet, and Strip from Thailand” dated July 23, 2008 (Polyplex Verification Report); and “Verification of the U.S. Sales Responses of Polyplex Thailand Public Company Limited and its U.S. Affiliate, Polyplex (Americas), Inc., in the Antidumping Investigation of Polyethylene Terephthalate (PET) Film, Sheet, and Strip from Thailand,” dated July 23, 2008 (Polyplex Americas Verification Report); see also Memorandum to the File through Neal M. Halper, from Angela Strom, titled “Verification of the Cost Response in the Investigation of Polyethylene Terephthalate (PET) Film, Sheet, and Strip from Thailand,” dated July 15, 2008 (Polyplex Cost Verification Report). All verification reports are on file and available in the Central Records Unit (CRU), Room 1117, of the main Department of Commerce building.

Based on the Department's findings at verification, as well as the minor corrections presented by Polyplex at the start of the Thailand and U.S. verifications, we requested that respondent submit revised electronic sales databases for both the U.S. and comparison markets, and a revised cost database. See Letter from Angelica L. Mendoza, Program Manager, Office 7, to Polyplex, dated July 28, 2008. As requested, Polyplex submitted its revised sales and cost databases on July 30, 2008. On July 31, 2008, Polyplex informed the Department that its July 30, 2008, revised U.S. sales database contained a transcription error in the reported returned and net quantity fields relating to a sale that the Department instructed Polyplex to correct. See Letter from Angelica L. Mendoza, Program Manager, Office 7, to Polyplex, dated July 28, 2008, at question 13 and Polyplex's letter to the Department dated July 31, 2008. The error did not impact other data fields of the sale in question and the Department corrected the transcription error in the U.S. margin program. See lines 2257 through 2259 of the Department's margin calculation program.

We have also determined that an allegation of targeted dumping submitted by DuPont Teijin Films, Mitsubishi Polyester Film of America, Inc., SKC, Inc. and Toray Plastics (America), Inc. (collectively, petitioners) on March 28, 2008, and supplemented on April 17, 2008, and May 23, 2008, was inadequate. See Memorandum from Angelica L. Mendoza, Program Manager, Office 7, to Richard O. Weible, Director, Office 7, regarding “Analysis on Targeting Dumping,” dated June 30, 2008 (Targeted Dumping Memo); see also Targeted Dumping section below.

We received a case brief from petitioners on August 11, 2008, and a rebuttal brief from Polyplex on August 14, 2008.¹ On August 26, 2008, we rejected an argument, and part of an argument, contained in Polyplex's rebuttal case brief because they constituted new arguments and were not a rebuttal of petitioners' case brief. See the Department's August 26, 2008, letter to Polyplex. On August 28, 2008, we received Polyplex's revised rebuttal brief per our August 26, 2008, letter.

¹ Polyplex submitted a letter to the Department on August 11, 2008, in which it agreed with the Department's Preliminary Determination.

Analysis of Comments Received

All issues raised in the case and rebuttal briefs by parties to this antidumping investigation are addressed in the “Issues and Decision Memorandum for the Final Determination of the Antidumping Duty Investigation of Polyethylene Terephthalate Film, Sheet, and Strip (PET Film) from Thailand” (Decision Memorandum) from Stephen J. Claeys, Deputy Assistant Secretary for Import Administration, to David M. Spooner, Assistant Secretary for Import Administration, dated September 17, 2008, which is hereby adopted by this notice. A list of the issues which parties have raised and to which we have responded, all of which are in the Decision Memorandum, is attached to this notice as an appendix. Parties can find a complete discussion of all issues raised in this investigation and the corresponding recommendations in the Decision Memorandum which is on file in the CRU. In addition, a complete version of the Decision Memorandum can be accessed directly on the Web at http://ia.ita.doc.gov/. The paper copy and electronic version of the Decision Memorandum are identical in content.

Targeted Dumping

We determined that petitioners' allegation of targeted dumping failed to address the Department's concerns regarding the significance of price differences between allegedly targeted and non-targeted customers. Therefore, petitioners' allegation did not allow the Department to determine whether observed price differences between allegedly targeted and non-targeted customers were significant. We concluded that for the final determination, we should continue to utilize the average-to-average methodology in calculating the final margins for Polyplex, which we are doing for the reasons set forth in the Decision Memorandum.

Scope of Investigation

The products covered by this investigation are all gauges of raw, pre-treated, or primed PET Film, whether extruded or co-extruded. Excluded are metallized films and other finished films that have had at least one of their surfaces modified by the application of a performance-enhancing resinous or inorganic layer more than 0.00001 inches thick. Also excluded is Roller transport cleaning film which has at least one of its surfaces modified by application of 0.5 micrometers of SBR latex. Tracing and drafting film is also excluded. PET Film is classifiable under subheading 3920.62.00.90 of the Harmonized Tariff Schedule of the United States (HTSUS). While HTSUS subheadings are provided for convenience and purposes of Customs and Border Protection (CBP), our written description of the scope of this investigation is dispositive.

Period of Investigation

The period of investigation (POI) is July 1, 2006, through June 30, 2007.

Verification

As provided in section 782(i) of the Act, we verified the information submitted by Polyplex for use in our final determination. We used standard verification procedures including examination of relevant accounting and production records, and original source documents provided by Polyplex.

Changes since the Preliminary Determination

Based on our analysis of the comments received and our findings at both the sales and cost verifications, we have made certain changes to the margin calculation for Polyplex. With regard to cost, we have revised the amounts reported for direct materials, labor and fixed overhead costs associated with the production of PET Film. We have also recalculated the general and administrative (G&A) expense rate using our adjusted cost of sales figure as the denominator of the rate calculation. See Memorandum to the File from Angela Strom titled “Cost of Production and Constructed Value Calculation Adjustments for the Final Determination Polyplex (Thailand) Public Company Ltd. (“Polyplex”)” dated September 17, 2008 (Cost Calculation Memorandum).

With regard to sales, the Department determined that it is more appropriate to use sales of identical non-prime merchandise to certain U.S. customers as the basis of the margin for sales to a U.S. customer for whom we are applying the special rule, because all the transactions to that U.S. customer were of the same merchandise. Additionally, the Department has adjusted the indirect selling expense (ISE) ratio for Polyplex Thailand Public Company Limited because there was insufficient record evidence to support Polyplex's offset to ISE for storage of non-subject merchandise. The Department also adjusted the ISE ratio for Polyplex Americas, Inc. (PA) because expenses associated with one of Polyplex's product divisions, expenses which Polyplex removed from PA's ISE ratio, properly belong in the ISE expenses of PA as a whole. See Decision Memorandum at Comments 4, 5 and 6. For a discussion of these changes, see Memorandum to the File from Stephen Bailey, Case Analyst, through Angelica L. Mendoza, Program Manager, Office 7, titled “Analysis Memorandum for the Final Determination of Administrative Review of Polyethylene Terephthalate Film, Sheet, and Strip (PET Film) from Thailand: Polyplex Thailand Public Company Limited and Polyplex Americas, Inc.,” dated September 17, 2008 (Sales Analysis Memorandum).

Final Determination of Investigation

We determine that the following weighted-average dumping margin exists for the company listed below for the period July 1, 2006, through June 30, 2007:

Manufacturer or Exporter | Weighted-Average Margin (Percentage)
Polyplex | 6.07
All Others | 6.07

Suspension of Liquidation

Pursuant to section 735(c)(1)(B) of the Act, we will instruct CBP to suspend liquidation of all entries of subject merchandise from Thailand entered, or withdrawn from warehouse, for consumption on or after the date of publication of this final determination. We will instruct CBP to require a cash deposit or the posting of a bond equal to the weighted-average margin, as indicated in the chart above, as follows: (1) the rate for Polyplex will be 6.07 percent; (2) if the exporter is not a firm identified in this investigation but the producer is, the rate will be the rate established for the producer of the subject merchandise; (3) the rate for all other producers or exporters will be 6.07 percent. These suspension-of-liquidation instructions will remain in effect until further notice.

International Trade Commission Notification

In accordance with section 735(d) of the Act, we have notified the International Trade Commission (ITC) of our final determination. As our final determination is affirmative and in accordance with section 735(b)(2) of the Act, the ITC will determine, within 45 days, whether the domestic industry in the United States is materially injured, or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 735(d) and 777(i)(1) of the Act and 19 CFR 351.210(c).

Dated: September 17, 2008.
Stephen J. Claeys,
Acting Assistant Secretary for Import Administration.

Appendix

Issues

Comment 1: Whether Polyplex Understated the Cost of Polymer Chips for PET Film Production

Comment 2: Whether Polyplex Understated Labor Costs associated with PET Film Production

Comment 3: Whether Polyplex Correctly Reported the Cost of Sales Denominator for the General and Administrative Expense Ratio

Comment 4: Whether Polyplex Understated Warehousing Expenses and Misclassified Warehousing Expenses as Indirect Selling Expenses

Comment 5: Whether Polyplex Understated the Indirect Selling Expenses Incurred by Polyplex America, Inc.

Comment 6: Whether the Department Should Apply the Dumping Margin Calculated on Sales of Identical Merchandise to the Further Manufactured Sales

Comment 7: Whether to Accept Petitioners' Targeted Dumping Allegation

Comment 8: Clerical Error

[FR Doc. E8-22472 Filed 9-23-08; 8:45 am]

BILLING CODE 3510-DS-S